DEPARTMENT OF EDUCATION

Office of Innovation and Improvement; Overview Information; Charter Schools Program (CSP); Notice Inviting Applications for New Awards for Fiscal Year (FY) 2004

Catalog of Federal Domestic Assistance (CFDA) Number: 84.282A, 84.282B, and 84.282C.

Dates: Applications Available: December 24, 2003.

Deadline for Transmittal of Applications: February 19, 2004.

Deadline for Intergovernmental Review: April 19, 2004.

Eligible Applicants: (a) State educational agencies (SEAs) in States with a State statute specifically authorizing the establishment of charter schools may apply for funding.

(b) Non-SEA eligible applicants may apply for funding directly from the U.S. Department of Education (Department) if the SEA in the State elects not to participate in the CSP or does not have an application approved under the program.

Estimated Available Funds: Although the Congress has not enacted a final appropriation for FY 2004, the Department is inviting applications for this competition now so that it may be prepared to make awards following final action on the Department's appropriations bill. Based on the congressional action to date, we estimate that $64,000,000 will be available for new awards under this competition. The actual level of funding depends on final congressional action.

Estimated Range of Awards: SEAs: $500,000-$8,000,000 per year. Other eligible applicants: $10,000-$150,000 per year.

Estimated Average Size of Awards: SEAs: $3,000,000 per year. Other eligible applicants: $130,000 per year.

Estimated Number of Awards: SEAs: 18-22. Other eligible applicants: 50-75.

Note: The Department is not bound by any estimates in this notice.

Project Period: Up to 36 months.

Full Text of Announcement

I. Funding Opportunity Description

Purpose of Program: The purpose of the CSP is to increase national understanding of the charter school model and to expand the number of high-quality charter schools available to students across the Nation by providing financial assistance for the planning, program design, and initial implementation of charter schools and for evaluating the effects of charter schools, including the effects on students, student academic achievement, staff, and parents.

The Department will hold three (3) separate competitions under this program. All SEA applicants must apply for grant funds under CFDA No. 84.282A. Non-SEA eligible applicants that propose to use grant funds for planning, program design, and implementation must apply under CFDA No. 84.282B. Non-SEA eligible applicants that are requesting funds for dissemination activities must submit their applications under CFDA No. 84.282C.

Priorities: In accordance with 34 CFR 75.105(b)(2)(iv), these priorities are from section 5202(e) of the Elementary and Secondary Education Act of 1965, as amended (ESEA), 20 U.S.C. 7221a(e).

Competitive Preference Priorities: For FY 2004 these priorities are competitive preference priorities. Under 34 CFR 75.105(c)(2)(i) we award up to an additional 40 points to an applicant, depending on how well the application meets these priorities.

In awarding grants to SEAs under this competition, the Secretary gives priority to States to the extent that the State meets the statutory criterion described in paragraph (a) of this section, and one or more of the statutory criteria described in paragraphs (b) through (d) of this section.

An SEA that meets priority (a) but does not meet one or more of the other priorities will not receive any priority points.

An SEA that does not meet priority (a) but meets one or more of the other priorities will not receive any priority points.

In order to receive preference, an applicant must identify the priorities that it believes it meets and provide documentation supporting its claims.

These priorities are:

(a) Periodic Review and Evaluation (10 points). The State provides for periodic review and evaluation by the authorized public chartering agency of each charter school at least once every 5 years, unless required more frequently by State law, to determine whether the charter school is meeting the terms of the school's charter, and is meeting or exceeding the academic achievement requirements and goals for charter schools as provided under State law or the school's charter.

(b) Number of High-Quality Charter Schools (10 points). The State has demonstrated progress in increasing the number of high-quality charter schools that are held accountable in the terms of the schools' charters for meeting clear and measurable objectives for the educational progress of the students attending the schools, in the period prior to the period for which an SEA or non-SEA eligible applicant applies for a grant under this competition.

(c) One Authorized Public Chartering Agency Other than a Local Educational Agency (LEA), or an Appeals Process (10 points). The State—

(1) Provides for one authorized public chartering agency that is not an LEA, such as a State chartering board, for each individual or entity seeking to operate a charter school pursuant to State law; or

(2) In the case of a State in which LEAs are the only authorized public chartering agencies, allows for an appeals process for the denial of an application for a charter school.

(d) High Degree of Autonomy (10 points). The State ensures that each charter school has a high degree of autonomy over the charter school's budgets and expenditures.

Invitational Priorities: Under these competitions we are particularly interested in applications that address the following priorities. For FY 2004 these priorities are invitational priorities. Under 34 CFR 75.105(c)(1), we do not give an application that meets these invitational priorities a competitive or absolute preference over other applications.

These priorities are:

(a) The applicant proposes to plan, design, and implement one or more high-quality charter schools to address parental interest in public school choice, particularly for parents of children attending schools identified for improvement under Title I, part A of the ESEA.

(b) The applicant proposes to plan, design, and implement one or more high-quality charter schools in geographic areas, including urban and rural areas, in which a large proportion or number of public schools have been identified for improvement, corrective action, or restructuring under Title I, Part A of the ESEA; and

(c) The applicant proposes to plan, design, and implement one or more high-quality charter schools in geographic areas in which a large proportion of students have difficulty meeting State academic content and student achievement standards.

Program Authority: 20 U.S.C. 7221-7221j.

Applicable Regulations: The Education Department General Administrative Regulations (EDGAR) in 34 CFR parts 75, 76, 77, 79, 80, 81, 82, 85, 86, 97, 98, and 99.

II. Award Information

Type of Award: Discretionary grants.

Estimated Available Funds: Although the Congress has not enacted a final appropriation for FY 2004, the Department is inviting applications for this competition now so that it may be prepared to make awards following final action on the Department's appropriations bill. Based on the congressional action to date, we estimate that $64,000,000 will be available for new awards under this competition. The actual level of funding depends on final congressional action.

Estimated Range of Awards: SEAs: $500,000-$8,000,000 per year. Other eligible applicants: $10,000-$150,000 per year.

Estimated Average Size of Awards: SEAs: $3,000,000 per year. Other eligible applicants: $130,000 per year.

Estimated Number of Awards: SEAs: 18-22. Other eligible applicants: 50-75.

Note: The Department is not bound by any estimates in this notice.

Project Period: Up to 36 months.

Note: Planning and implementation grants or subgrants awarded by the Secretary or an SEA to non-SEA eligible applicants will be awarded for a period of up to 36 months, no more than 18 months of which may be used for planning and program design; and no more than two years of which may be used for the initial implementation of a charter school. Dissemination grants and subgrants are awarded for a period of up to two years.

III. Eligibility Information

1. Eligible Applicants: (a) SEAs in States with a State statute specifically authorizing the establishment of charter schools may apply for funding.

Note: The Secretary awards grants to SEAs to enable them to conduct charter school programs in their States. SEAs use their CSP funds to award subgrants to eligible applicants, as defined in this notice, for planning, program design, and initial implementation of a charter school; and to support the dissemination of information about, including successful practices in, charter schools.

(b) Non-SEA eligible applicants may apply for funding directly from the Department if the SEA in the State elects not to participate in the CSP or does not have an application approved under the program.

Note: A non-SEA eligible applicant is defined as a developer that has applied to an authorized public chartering authority to operate a charter school and has provided to that authority adequate and timely notice, and a copy, of its CSP application, except that the Secretary or the SEA may waive these requirements in the case of a pre-charter planning grant. Non-SEA eligible applicants, like SEAs, must be in States that have statutes specifically authorizing charter schools. If an SEA's application is approved in this competition, the Department will return applications from non-SEA eligible applicants in that State to the applicants. In such a case, the non-SEA eligible applicant should contact the SEA for information related to the State's subgrant competition.

The following States currently have approved applications under this program: Arkansas, Connecticut, Delaware, the District of Columbia, Florida, Hawaii, Idaho, Illinois, Iowa, New Hampshire, New Jersey, New York, North Carolina, Oklahoma, Oregon, Tennessee, Utah, and Wisconsin. In these States, only the SEA is eligible to receive an award under this competition. Non-SEA eligible applicants in States that are not listed must apply directly to the Department on or before the deadline for transmittal of applications in order to be considered for funding in this competition.

(c) Dissemination Grants. A charter school may apply to an SEA for funds to carry out dissemination activities, whether or not the charter school has applied for or received funds under the CSP for planning or implementation, if the charter school has been in operation for at least three consecutive years and has demonstrated overall success, including—

(1) Substantial progress in improving student academic achievement;

(2) High levels of parent satisfaction; and

(3) The management and leadership necessary to overcome initial start-up problems and establish a thriving, financially viable charter school.

2. Cost Sharing or Matching: These competitions do not involve cost sharing or matching.

3. Other: All applicants must meet the definitions of charter school, developer, eligible applicant, and authorized public chartering agency, as defined in the authorizing statute. These definitions are in the application package.

IV. Application and Submission Information

1. Address to Request Application Package: Rik Lanzendorfer, U.S. Department of Education, 400 Maryland Avenue, SW., room 3C148 FB6, Washington, DC 20202-5961. Telephone: (202) 205-9786 or by e-mail: Rik.Lanzendorfer@ed.gov

If you use a telecommunications device for the deaf (TDD), you may call the Federal Information Relay Service (FIRS) at 1-800-877-8339.

Individuals with disabilities may obtain a copy of the application package in an alternative format (e.g., Braille, large print, audiotape, or computer diskette) by contacting the program contact person listed in this section. However, the Department is not able to reproduce in an alternative format the standard forms included in the application package.

2. Content and Form of Application Submission: Requirements concerning the content of an application, together with the forms you must submit, are in the application package for this competition. Page Limit: The application narrative (Part III of the application) is where you, the applicant, address the selection criteria that reviewers use to evaluate your application. You must limit Part III to the equivalent of no more than 50 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

The page limit does not apply to Part I, the cover sheet; Part II, the budget section, including the narrative budget justification; Part IV, the assurances and certifications; or the one-page abstract, the resumes, the bibliography, or the letters of support. However, you must include all of the application narrative in Part III.

We will reject your application if—

• You apply these standards and exceed the page limit; or

• You apply other standards and exceed the equivalent of the page limit.

3. Submission Dates and Times:

Applications Available: December 24, 2003.

Deadline for Transmittal of Applications: February 19, 2004.

Note: We are requiring that applications for grants under these competitions be submitted electronically using the Electronic Grant Application System (e-Application) available through the Department's e-GRANTS system. For information about how to access the e-GRANTS system or to request a waiver of the electronic submission requirement, please refer to Section IV, Other Submission Requirements, in this notice.

The application package for this competition specifies the hours of operation of the e-Application Web site. If you are requesting a waiver of the electronic submission requirement, the dates and times for the transmittal of applications by mail or by hand (including a courier service or commercial carrier) are also in the application package.

We do not consider an application that does not comply with the deadline requirements.

Deadline for Intergovernmental Review: April 19, 2004.

4. Intergovernmental Review: This competition is subject to Executive Order 12372 and the regulations in 34 CFR part 79. Information about Intergovernmental Review of Federal Programs under Executive Order 12372 is in the application package for this competition.

5. Funding Restrictions: Use of Funds for Dissemination Activities. An SEA may reserve not more than 10 percent of the grant funds to support dissemination activities. A charter school may use those funds to assist other schools in adapting the charter school's program (or certain aspects of the charter school's program), or to disseminate information about the charter school through such activities as—

(a) Assisting other individuals with the planning and start-up of one or more new public schools, including charter schools, that are independent of the assisting charter school and the assisting charter school's developers, and that agree to be held to at least as high a level of accountability as the assisting charter school;

(b) Developing partnerships with other public schools, including charter schools, designed to improve student performance in each of the schools participating in the partnership;

(c) Developing curriculum materials, assessments, and other materials that promote increased student achievement and are based on successful practices within the assisting charter school; and

(d) Conducting evaluations and developing materials that document the successful practices of the assisting charter school and that are designed to improve student achievement.

We reference regulations outlining funding restrictions in the Applicable Regulations section of this notice.

6. Other Submission Requirements: Instructions and requirements for the transmittal of applications by mail or by hand (including a courier service or commercial carrier) are in the application package for these competitions. Application Procedures: The Government Paperwork Elimination Act (GPEA) of 1998 (Pub. L. 105-277) and the Federal Financial Assistance Management Improvement Act of 1999 (Pub. L. 106-107) encourage us to undertake initiatives to improve our grant processes. Enhancing the ability of individuals and entities to conduct business with us electronically is a major part of our response to these Acts. Therefore, we are taking steps to adopt the Internet as our chief means of conducting transactions in order to improve services to our customers and to simplify and expedite our business processes.

Some of the procedures in these instructions for transmitting applications differ from those in EDGAR (34 CFR 75.102). Under the Administrative Procedure Act (5 U.S.C. 553), the Department generally offers interested parties the opportunity to comment on proposed regulations. However, these amendments make procedural changes only and do not establish new substantive policy. Therefore, under 5 U.S.C. 553(b)(A), the Secretary has determined that proposed rulemaking is not required.

We are requiring that applications for grants under Charter Schools Program—CFDA Numbers 84.282A, B, and C be submitted electronically using the Electronic Grant Application System (e-Application) available through the Department's e-GRANTS system. The e-GRANTS system is accessible through its portal page at: http://e-grants.ed.gov.

If you are unable to submit an application through the e-GRANTS system, you may submit a written request for a waiver of the electronic submission requirement. In your request, you should explain the reason or reasons that prevent you from using the Internet to submit your application. Address your request to: Rik Lanzendorfer, U.S. Department of Education, 400 Maryland Avenue, SW., room FB6-3C148, Washington, DC 20202-5961. Please submit your request no later than two weeks before the application deadline date.

If, within two weeks of the application deadline date, you are unable to submit an application electronically, you must submit a paper application by the application deadline date in accordance with the transmittal instructions in the application package. The paper application must include a written request for a waiver documenting the reasons that prevented you from using the Internet to submit your application.

Pilot Project for Electronic Submission of Applications: We are continuing to expand our pilot project for electronic submission of applications to include additional formula grant programs and additional discretionary grant competitions. Charter Schools Program—CFDA Numbers 84.282A, B, and C is one of the programs included in the pilot project. If you are an applicant under the CSP competitions, you must submit your application to us in electronic format or receive a waiver.

The pilot project involves the use of e-Application. If you use e-Application, you will be entering data online while completing your application. You may not e-mail an electronic copy of a grant application to us. The data you enter online will be saved into a database. We shall continue to evaluate the success of e-Application and solicit suggestions for its improvement.

If you participate in e-Application, please note the following:

• When you enter the e-Application system, you will find information about its hours of operation. We strongly recommend that you do not wait until the application deadline date to initiate an e-Application package.

• You will not receive additional point value because you submit a grant application in electronic format, nor will we penalize you if you submit an application in paper format.

• You must submit all documents electronically, including the Application for Federal Education Assistance (ED 424), Budget Information—Non-Construction Programs (ED 524), and all necessary assurances and certifications.

• Your e-Application must comply with any page limit requirements described in this notice.

• After you electronically submit your application, you will receive an automatic acknowledgement, which will include a PR/Award number (an identifying number unique to your application).

• Within three working days after submitting your electronic application, fax a signed copy of the Application for Federal Education Assistance (ED 424) to the Application Control Center after following these steps:

1. Print ED 424 from e-Application.

2. The institution's Authorizing Representative must sign this form.

3. Place the PR/Award number in the upper right hand corner of the hard copy signature page of the ED 424.

4. Fax the signed ED 424 to the Application Control Center at (202) 260-1349.

• We may request that you give us original signatures on other forms at a later date.

Application Deadline Date Extension in Case of System Unavailability: If you are prevented from submitting your application on the application deadline date because the e-Application system is unavailable, we will grant you an extension of one business day in order to transmit your application electronically, by mail, or by hand delivery. We will grant this extension if—

1. You are a registered user of e-Application and you have initiated an e-Application for this competition; and

2. (a) The e-Application system is unavailable for 60 minutes or more between the hours of 8:30 a.m. and 3:30 p.m., Washington, DC time, on the application deadline date; or

(b) The e-Application system is unavailable for any period of time during the last hour of operation (that is, for any period of time between 3:30 p.m. and 4:30 p.m., Washington, DC time) on the application deadline date.

We must acknowledge and confirm these periods of unavailability before granting you an extension. To request this extension or to confirm our acknowledgement of any system unavailability, you may contact either (1) the person listed elsewhere in this notice under For Further Information Contact (see VII. Agency Contact) or (2) the e-GRANTS help desk at 1-888-336-8930.

You may access the electronic grant application for Charter Schools Program—CFDA Numbers 84.282A, B, and C at: http://e-grants.ed.gov.

V. Application Review Information

1. Selection Criteria: All SEA and non-SEA applicants applying for CSP grant funds must address both the application requirements and selection criteria. All SEA and non-SEA applicants applying for CSP grant funds may choose to respond to the application requirements in the context of their response to the selection criteria.

(a) SEAs (CFDA No. 84.282A).

(i) Application Requirements (CFDA No. 84.282A). (A) Describe the objectives of the SEA's charter school grant program and describe how these objectives will be fulfilled, including steps taken by the SEA to inform teachers, parents, and communities of the SEA's charter school grant program;

(B) Describe how the SEA will inform each charter school in the State about Federal funds that the charter school is eligible to receive and Federal programs in which the charter school may participate;

(C) Describe how the SEA will ensure that each charter school in the State receives the school's commensurate share of Federal education funds that are allocated by formula each year, including during the first year of operation of the school;

(D) Describe how the SEA will disseminate best or promising practices of charter schools to each local educational agency in the State;

(E) If an SEA elects to reserve part of its grant funds (no more than 10 percent) for the establishment of a revolving loan fund, describe how the revolving loan fund would operate;

(F) If an SEA desires the Secretary to consider waivers under the authority of the CSP, include a request and justification for any waiver of statutory or regulatory provisions that the SEA believes is necessary for the successful operation of charter schools in the State; and

(G) Describe how charter schools that are considered to be LEAs under State law and LEAs in which charter schools are located will comply with sections 613(a)(5) and 613(e)(1)(B) of the Individuals with Disabilities Education Act.

(ii) Selection Criteria (CFDA No. 84.282A). SEAs that propose to use a portion of their grant funds for dissemination activities must address each selection criterion (A) through (H) individually and title each accordingly. SEAs that do not propose to use a portion of their grant funds for dissemination activities must address selection criteria (A) through (G) only, and need not address selection criterion (H).

The maximum possible score is 130 points for SEAs that do not propose to use grant funds to support dissemination activities, and 150 points for SEAs that propose to use grant funds to support dissemination activities.

The maximum possible score for each criterion is indicated in parentheses following the criterion.

To ensure fairness, if an SEA is not proposing to use grant funds to support dissemination activities, the Secretary will not consider points awarded under criterion (H) in determining whether to approve an application for funding.

In evaluating an application from an SEA, the Secretary considers the following criteria:

(A) The contribution the charter schools grant program will make in assisting educationally disadvantaged and other students to achieve State academic content standards and State student academic achievement standards (25 points).

(B) The degree of flexibility afforded by the SEA to charter schools under the State's charter school law (20 points).

(C) The ambitiousness of the objectives for the State charter school grant program (15 points).

(D) The quality of the SEA's strategy for assessing achievement of those objectives (15 points).

(E) The likelihood that the charter school grant program will meet those objectives and improve educational results for students (15 points).

(F) The number of high-quality charter schools to be created in the State (20 points).

(G) The adequacy of the management plan to achieve the objectives of the proposed project on time and within budget, including clearly defined responsibilities, timelines, and milestones for accomplishing project tasks (20 points).

(H) In the case of SEAs that propose to use grant funds to support dissemination activities under section 5204(f)(6) of the ESEA, the quality of the dissemination activities (10 points) and the likelihood that those activities will improve student achievement (10 points).

(b) Non-SEA Applicants (CFDA No. 84.282B and 84.282C). The application requirements for all non-SEA applicants are listed in paragraph (i) in this section.

The selection criteria for non-SEA applicants for Planning, Program Design, and Implementation Grants (CFDA No. 82.282B) are listed in paragraph (ii) in this section.

The selection criteria for non-SEA applicants for Dissemination Grants (CFDA No. 84.282C) are listed in paragraph (iii) in this section.

(i) Application Requirements (CFDA Nos. 84.282B and 84.282C). (A) Describe the educational program to be implemented by the proposed charter school, including how the program will enable all students to meet challenging State student academic achievement standards, the grade levels or ages of students to be served, and the curriculum and instructional practices to be used;

(B) Describe how the charter school will be managed;

(C) Describe the objectives of the charter school and the methods by which the charter school will determine its progress toward achieving those objectives;

(D) Describe the administrative relationship between the charter school and the authorized public chartering agency;

(E) Describe how parents and other members of the community will be involved in the planning, program design, and implementation of the charter school;

(F) Describe how the authorized public chartering agency will provide for continued operation of the charter school once the Federal grant has expired, if that agency determines that the charter school has met its objectives;

(G) If the charter school desires the Secretary to consider waivers under the authority of the CSP, include a request and justification for waivers of any Federal statutory or regulatory provisions that the applicant believes are necessary for the successful operation of the charter school, and a description of any State or local rules, generally applicable to public schools, that will be waived for, or otherwise not apply to, the school;

(H) Describe how the grant funds will be used, including how these funds will be used in conjunction with other Federal programs administered by the Secretary; and

(I) Describe how students in the community will be informed about the charter school and be given an equal opportunity to attend the charter school.

(ii) Selection Criteria (CFDA No. 84.282B). Non-SEA Planning, Program Design, and Initial Implementation Grant applicants must address each selection criterion (A) through (I) individually and title each accordingly.

The maximum possible score for all of the criteria in this section is 145 points.

The maximum possible score for each criterion is indicated in parentheses following the criterion.

In evaluating an application from a non-SEA eligible applicant for Planning, Program Design, and Implementation, the Secretary considers the following criteria:

(A) The quality of the proposed curriculum and instructional practices (25 points).

(B) The degree of flexibility afforded by the SEA and, if applicable, the LEA to the charter school (10 points).

(C) The extent of community support for the application (10 points).

(D) The ambitiousness of the objectives for the charter school (15 points).

(E) The quality of the strategy for assessing achievement of those objectives (10 points).

(F) The likelihood that the charter school will meet those objectives and improve educational results for students during and after the period of Federal financial assistance (20 points).

(G) The extent to which the proposed project encourages parental involvement (20 points).

(H) The qualifications, including relevant training and experience, of the project director; and the extent to which the applicant encourages applications for employment from persons who are members of groups that traditionally have been underrepresented based on race, color, national origin, gender, age, or disability (10 points).

(I) The contribution the charter school will make in assisting educationally disadvantaged and other students to achieve to State academic content standards and State student academic achievement standards (25 points).

(iii) Selection Criteria (CFDA No. 84.282C). Non-SEA applicants for Dissemination Grants must address each selection criterion (A) through (E) individually and title each accordingly.

The maximum possible score for all of the criteria in this section is 125 points.

The maximum possible score for each criterion is indicated in parentheses following the criterion.

In evaluating an application from a non-SEA eligible applicant for a dissemination grant, the Secretary considers the following criteria:

(A) The quality of the proposed dissemination activities and the likelihood that those activities will improve student achievement (30 points).

(B) The extent to which the school has demonstrated overall success, including—

(1) Substantial progress in improving student achievement (15 points);

(2) High levels of parent satisfaction (15 points); and

(3) The management and leadership necessary to overcome initial start-up problems and establish a thriving, financially viable charter school (15 points).

(C) The extent to which the results of the proposed project will be disseminated in a manner that will enable others to use the information or strategies (20 points).

(D) The qualifications, including relevant training and experience, of the project director; and the extent to which the applicant encourages applications for employment from persons who are members of groups that traditionally have been underrepresented based on race, color, national origin, gender, age, or disability (10 points).

(E) The adequacy of the management plan to achieve the objectives of the proposed project on time and within budget, including clearly defined responsibilities, timelines, and milestones for accomplishing project tasks (20 points).

VI. Award Administration Information

1. Award Notices: If your application is successful, we will notify your U.S. Representative and U.S. Senators and send you a Grant Award Notification (GAN). We may also notify you informally.

If your application is not evaluated or not selected for funding, we will notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118.

4. Performance Measures: Under the Government Performance and Results Act (GPRA), one measure has been developed for evaluating the overall effectiveness of the CSP: To support the creation of a large number of high-quality charter schools. The objective of this goal is to encourage the development of a large number of high-quality charter schools that are free from state or local rules that inhibit flexible operation, are held accountable for enabling students to reach challenging state performance standards, and are open to all students. The Secretary has set an overall performance target that calls for an increase in both the number of states with charter school legislation and the number of charter schools in operation around the nation.

All grantees will be expected to submit an annual performance report documenting their contribution in assisting the Department in meeting this performance measure.

VII. Agency Contact

For Further Information Contact: Rik Lanzendorfer, U.S. Department of Education, 400 Maryland Avenue, SW., room 3C148 FB6, Washington, DC 20202-5961. Telephone: (202) 205-9786 or by e-mail: Rik.Lanzendorfer@ed.gov.

If you use a telecommunications device for the deaf (TDD), you may call the Federal Information Relay Service (FIRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: December 19, 2003.
Nina Shokraii Rees,
Deputy Under Secretary for Innovation and Improvement.

[FR Doc. 03-31699 Filed 12-23-03; 8:45 am]

BILLING CODE 4000-01-U